DEPARTMENT OF ENERGY

10 CFR Part 430

[Docket No. EERE-2010-BT-TP-0026]

RIN 1904-AC29

Energy Efficiency Program: Test Procedure for Televisions; Request for Information and Request for Comments

AGENCY: Office of Energy Efficiency and Renewable Energy, Department of Energy.

ACTION: Request for information and request for comments.

SUMMARY: The U.S. Department of Energy (DOE) is initiating the rulemaking and data collection process to develop a test procedure for televisions. To inform interested parties and to facilitate this process, DOE has gathered data, identifying several issues associated with the currently available test procedures on which DOE is particularly interested in receiving comment. The issues outlined in this document mainly concern televisions in active mode (they do not, for example, include issues related to low power modes). DOE welcomes written comments from the public on any subject within the scope of this rulemaking (including topics not raised in this request for information).

DATES: DOE will accept written comments, data, and information on this notice, but no later than October 4, 2010.

ADDRESSES: Interested parties may submit comments, identified by docket number EERE-2010-BT-TP-0026 and/or Regulation Identifier Number (RIN) 1904-AC29, by any of the following methods:

• Federal eRulemaking Portal: http://www.regulations.gov. Follow the instructions for submitting comments.

• E-mail: Televisions-2010-TP-0026@ee.doe.gov mailto: Include docket number EERE-2010-BT-TP-0026 and/or RIN 1904-AC29 in the subject line of the message.

• Mail: Ms. Brenda Edwards, U.S. Department of Energy, Building Technologies Program, Mailstop EE-2J, Request for Information for Televisions Test Procedure, Docket No. EERE-2010-BT-TP-0026 and/or RIN 1904-AC29, 1000 Independence Avenue, SW., Washington, DC 20585-0121. Please submit one signed paper original.

• Hand Delivery/Courier: Ms. Brenda Edwards, U.S. Department of Energy, Building Technologies Program, Sixth Floor, 950 L'Enfant Plaza, SW., Washington, DC 20024. Please submit one signed paper original.

Docket: For access to the docket to read background documents or comments received, go to the U.S. Department of Energy, Resource Room of the Building Technologies Program, Sixth Floor, 950 L'Enfant Plaza, SW., Washington, DC 20024, (202) 586-2945, between 9 a.m. and 4 p.m., Monday through Friday, except Federal holidays. Please call Ms. Brenda Edwards first at the above telephone number for additional information regarding visiting the Resource Room.

FOR FURTHER INFORMATION CONTACT: Mr. Victor Petrolati, U.S. Department of Energy, Office of Energy Efficiency and Renewable Energy, Building Technologies, EE-2J, 1000 Independence Avenue, SW., Washington, DC 20585-0121. Telephone: (202) 586-4549. E-mail: Victor.Petrolati@ee.doe.gov.

Ms. Celia Sher, U.S. Department of Energy, Office of the General Counsel, GC-71, 1000 Independence Avenue, SW., Washington, DC 20585-0121. Telephone: (202) 287-6122. E-mail: Celia.Sher@Hq.Doe.Gov.

For information on how to submit or review public comments and on how to participate in the public meeting, contact Ms. Brenda Edwards, U.S. Department of Energy, Office of Energy Efficiency and Renewable Energy, Building Technologies Program, EE-2J, 1000 Independence Avenue, SW., Washington, DC 20585-0121. Telephone (202) 586-2945. E-mail: Brenda.Edwards@ee.doe.gov.

SUPPLEMENTARY INFORMATION:

Table of Contents

I. Introduction

II. Discussion

A. Luminance Level Measurements

1. Luminance Ratio

2. Test Pattern and Measurement Method

3. Measurement Distances and Angles

4. Preset Picture Modes

B. Automatic Brightness Control

1. Room Illuminance

2. Measurement Location and Lighting

C. Signal Source

D. Steady State

E. Three Dimensional (3D) Technology

F. Download Acquisition Mode

G. Internet Connectivity

H. Power Saving Technology

1. Presence Sensor

2. Other Power Saving Technologies

I. Scope of Coverage

III. Public Participation

I. Introduction

DOE adopted a test procedure for televisions (TVs) on June 29, 1979, as described in 44 FR 37938. The test procedure, previously 10 CFR part 430, subpart B, appendix H, was repealed on October 20, 2009, due to petitions from the California Energy Commission (CEC) and the Consumer Electronics Association (CEA) in light of the June 13, 2009 transition from analog to digital broadcast transmissions to televisions (74 FR 53640). As of June 12, 2009, the “Digital Transition and Public Safety Act of 2005” required that all broadcasting stations must transmit in digital to free up analog frequencies for public safety communications. (http://www.fcc.gov/cgb/consumerfacts/digitaltv.html) The CEC petitioned for repeal of the regulatory provisions establishing the test procedure and defining “television set,” while the CEA petitioned for DOE's adoption of the International Electrochemical Commission's test procedure IEC Standard 62087-2008, “Methods of measurement for the power consumption of audio, video and related equipment.” DOE is now taking steps required to assure the test procedure and standards are modernized to be able to capture the energy consumption of current TVs on the market.

The Energy Policy and Conservation Act of 1975, as amended (EPCA) provides DOE the authority to consider and prescribe new energy conservation test procedures for TVs. Title III of EPCA (42 U.S.C. 6291 et seq.) sets forth a variety of provisions designed to improve energy efficiency. Part A of title III (42 U.S.C. 6291-6309) establishes the “Energy Conservation Program for Consumer Products Other Than Automobiles.” The consumer products subject to this program (hereafter “covered products”), include TVs. Under EPCA, the overall program consists essentially of testing, labeling, and Federal energy conservation standards.

Section 323 of EPCA (42 U.S.C. 6293) sets forth generally applicable criteria and procedures for DOE's adoption and amendment of test procedures. It states, for example, that “[a]ny test procedures prescribed or amended under this section shall be reasonably designed to produce test results which measure energy efficiency, energy use, or estimated annual operating cost of a covered product during a representative average use cycle or period of use, as determined by the Secretary [of Energy], and shall not be unduly burdensome to conduct.” (42 U.S.C. 6293(b)(3)) Manufacturers of covered products must use test procedures prescribed under EPCA as the basis for establishing and certifying to DOE that their products comply with energy conservation standards adopted under EPCA. (42 U.S.C. 6295(s))

II. Discussion

While developing a test procedure for TVs, DOE looked to industry for existing test procedures. Among the most widely accepted are IEC Standard 62087-2008. ¹ and the Environmental Protection Agency's (EPA) “ENERGY STAR Program Requirements for Televisions, Version 4.1.² ” DOE has also studied CEA-2037 ³ and has noted that this test procedure relies heavily on both the ENERGY STAR and IEC test procedures. These test procedures, along with “Assessment of Options for Improving Energy Efficiency Test Procedures for Displays” (prepared for ENERGY STAR, Natural Resources Canada and NYSERDA by Ecos Consulting, March 17, 2010), as well as data and guidance provided from international subject matter experts, were the basis for identifying the below issues.

¹ Method of Measurement for the Power Consumption of Audio, Video and Related Equipment: International Electrotechnical Commission 62087 Edition 2.0 2008-10.

² Program Requirements for TVs: ENERGY STAR Versions 4.1 and 5.1 (http://www.energystar.gov/ia/partners/product_specs/program_reqs/tv_vcr_prog_req.pdf).

³ Determination of Television Average Power Consumption: Consumer Electronics Association. CEA-2037.

A. Luminance Level Measurements

1. Luminance Ratio

Although some display technologies' power consumption does not change markedly with changes in screen luminance, there is a strong correlation between these factors for most modern display technologies. This is evident, for example, in plasma, cathode ray tube (CRT), and locally dimmed LED-backlit LCD designs. As a result, it can be useful to measure the luminance of televisions during the process of determining their performance and power consumption. Among preset modes, most TVs have a retail picture mode for use in showrooms, in which their screens operate at relatively high luminance levels. TVs also typically have a home or default picture mode which is significantly dimmer and more suited for home viewing conditions.

ENERGY STAR v. 4.1 states that luminance should be tested at either a preset retail picture mode or the brightest selectable preset picture mode, therefore indicating that retail picture mode is analogous to the brightest selectable preset picture mode or a mode designed to be utilized while the TV is in a retail setting. ENERGY STAR v. 4.1 set guidelines specifying the picture mode in which TVs are to be set for testing by requiring that TVs either have 1) a forced menu where consumers can chose the picture mode in which their TV will operate (assuming most consumers will chose home or default picture mode), or 2) be tested as shipped.

Allowing for qualification in a home or default picture mode may encourage manufacturers to ship their TVs with a default picture mode dimmer than desired by most consumers, in order to earn a lower measured power value. Once purchased, consumers would likely switch the TV out of the dim picture mode to achieve a better picture, making the test procedure non-representative of actual energy use. To discourage this circumvention, and to ensure that TVs' home or default picture modes are not too dim for satisfactory consumer viewing, ENERGY STAR v. 4.1 requires that home or default picture mode luminance be at least 65 percent of retail picture mode luminance.

DOE acknowledges that the test procedure should ensure that screens are tested at levels sufficiently bright in home or default picture mode for satisfactory consumer utility; however, measuring luminance in a repeatable, representative manner has proven to be difficult, as discussed below. Therefore, DOE would like feedback from interested parties on alternative methods to help ensure that the screen brightness in home or default picture mode is not overly dim. Specifically, DOE is considering the following broad options individually or in combination:

• Measuring the power consumption of televisions at prescribed luminance levels;

• Eliminating the luminance measurement and comparing the ratio between the power consumed in home or default and retail picture modes while displaying a dynamic video signal; and/or

• Measuring the power consumption in various relevant picture modes.

DOE would like to receive interested party feedback on alternative methods of ensuring that screen brightness is adequate and representative, appropriate luminance levels, and proper percentages associated with the duration televisions spend at particular luminance levels.

2. Test Pattern and Measurement Method

When testing luminance, ENERGY STAR v. 4.1 requires that a single measurement be taken while the TV displays the 3-bar test pattern. The single measurement is taken, perpendicular to the center of the screen while displaying three bars of white (100 percent) over a black (0 percent) background, defined in IEC Standard 60107-1:1997, section 3.2.1.3. Although this test method is also employed by other regulating bodies, it may not be the most appropriate. According to a study done by Ecos Consulting, the 3-bar test pattern has an average picture level (APL) that is not typical of consumer use. This may disadvantage Plasma TVs, and has proven to be unpredictable with LED models. Furthermore, the single test point measurement is not appropriate for TVs with local dimming.

Alternative test patterns and test measurement methods may be more appropriate for the DOE test procedure. An alternative test pattern with an APL more similar to both the IEC broadcast video content and typical consumer use could be developed as an alternative testing pattern. The test pattern should also be technology neutral to prevent discrimination against particular TV technologies. However, DOE is aware that the IEC 3-bar test pattern has been adopted by multiple rulemaking bodies and trade associations such as EPA, CEA, CEC, and Australia. Therefore, DOE welcomes feedback from interested parties on using the IEC 3 bar test pattern. DOE also welcomes feedback on any alternative test patterns, such as a technology-neutral test pattern, that could be used in its test procedure.

Additionally, DOE is also considering a 9-point measurement over a single point measurement, since many televisions exhibit significant variations in luminance levels between the center and edges of the screen. China's test procedure takes the average of measurements made at 9 different points on the screen to account for those variations in luminance uniformity. DOE would like to receive feedback from interested parties on a 9-point test measurement versus a single point test measurement.

3. Measurement Distances and Angles

Measurement angles and distances are important when taking luminance readings. Therefore the ENERGY STAR v. 4.1 test procedure requires that the luminance measurement be taken “perpendicular to the center of the display screen.” ENERGY STAR v. 4.1 further specifies that for Light Measuring Devices (LMDs) “that are not to be operated in close proximity to the screen, a 500 millimeter distance is recommended.”

However, consumers watch TVs from various distances and angles. The test procedure may account for this by requiring that luminance measurements be taken at various angles and distances to most accurately account for consumer viewing conditions. Testing at various angles and distances might affect varying technologies differently depending on the particular test pattern. Alternatively, a contact measurement could be used, where the measurement device is placed directly on the screen to measure luminance.

DOE would like to receive feedback regarding the appropriateness of measuring luminance at the screen or at other distances and angles. Further, what distances and angles are optimal for taking these measurements?

4. Preset Picture Modes

As mentioned in section 1 above, ENERGY STAR v. 4.1 and IEC Standard 62087 require that TVs be tested in home or default picture mode. Many TVs are now equipped with remotes enabling consumers to switch easily between picture modes, allowing consumers to, either accidentally or intentionally, switch between modes. Easy switching between modes may put TVs into a higher power consumption state more easily. Currently, neither the ENERGY STAR v. 4.1 nor the IEC Standard 62087 test procedures account for energy consumption in non-retail or non-home modes. If consumers are more likely to switch out of home or default picture modes, the energy consumption associated with these other modes may require additional testing. Since current test procedures only require testing in home or default picture mode, DOE would like to receive feedback from interested parties on whether other preset viewing modes need to be tested and how to account for preset viewing modes.

B. Automatic Brightness Control

1. Room Illuminance

Automatic brightness control (ABC) is a power savings function that enables TVs to adjust screen luminance automatically according to the room illuminance. IEC Standard 62087 measures power savings related to ABC by requiring that the test be performed in a room with the illuminance at a level of 300 lux or greater. ENERGY STAR v. 4.1 requires the identical measurement at a level of 300 lux or greater along with an additional measurement at 0 lux.

Both IEC Standard 62087 and ENERGY STAR v. 4.1 require that a measurement be taken “at 300 lux or greater” which is ambiguous, as it requires testing at any illuminance greater than 300 lux rather than at a discrete point, and may not promote consistent testing across all products. Further, the ENERGY STAR v. 4.1 requirement may encourage manufacturers to drastically dim TVs at 0 lux (because power consumption is tested at 0 lux) and increase screen luminance sharply at values slightly over 0 lux to provide a bright picture setting, and then flatten out, or be non-responsive to illuminance changes until values of 300 lux or greater are achieved (since power consumption is tested at levels of 300 lux or greater). As a result, it is difficult to predict how much energy ABC will save when televisions are operated across a range of representative illuminance conditions.

A more repeatable and representative method of measuring ABC could result from requiring testing at specific illuminance conditions, rather than 0 lux and 300 lux or greater, that are more typical of consumer viewing conditions. DOE would like to receive comments from interested parties on testing at multiple illuminance levels as well as which levels would be most appropriate. Possible illuminance levels could include 0, 10, 100, and 200 lux.

2. Measurement Location and Lighting

When measuring ABC, both ENERGY STAR v. 4.1 and IEC Standard 62087 require that the measurement of room illuminance be taken at the location of the light presence sensor. However, there is no indication given regarding the orientation of illuminance meter, which can have a significant effect on the measured value. Likewise, no guidance is provided on the type of light source to be used, and how directional that source is, which could affect a light sensor's response.

DOE is aware that there are alternative locations to measure ambient light conditions. For example, rather than measuring illuminance at the light presence sensor, the measurement can be taken at the center of the screen. This approach may be preferred since the consumer views the TV at the center of the screen, ensuring that the test procedure is representative of consumer use. DOE welcomes interested party feedback on the positioning of illuminance measurements.

Finally, the lighting conditions used when measuring ABC should be created in a similar fashion, to promote consistent testing across products. DOE welcomes comments on the appropriate method to create desired illuminance to measure energy savings associated with ABC.

C. Signal Source

A number of different devices such as a Blu-ray player, DVD player, computer, or signal generator can serve as the signal source, which can be transmitted via high-definition multimedia interface (HDMI), digital component, or video graphics array (VGA) cables.

The IEC Standard 62087 test procedure requires an RF input signal or baseband input signal if RF is not available. The ENERGY STAR v. 4.1 requires that the input signals must be within ±2% of reference black and white levels. If the device has HDMI, this shall be used. Although both methods are sound, in order to obtain the most accurate and consistent power and luminance measurements, a standard method should be used.

DOE is considering which signal source is most robust to ensure repeatable and reproducible test procedure results. In a study done by Ecos, the use of a standard input generator with a HDMI input was found to produce the least varied results. Ecos concluded that if a signal generator was not used, a DVD or Blu-ray player would also be sufficient for conducting luminance ratio measurements; however, a personal computer did not provide a sufficiently consistent signal. Ecos also determined that when HDMI is not available, a component connection should be utilized. DOE would like interested parties to comment on the best possible signal sources and connections for use in its test procedure.

D. Steady State

TVs should reach steady state prior to the technician measuring both power and luminance. The warm-up periods for power measurements specified in IEC Standard 62087 and ENERGY STAR v. 4.1 are dependent on the video signal being used to test the TV. For static video signals, the measurement must be taken before the activation of image retention prevention features. Whereas for broadcast-content video and internet-content video signals, the measurement is taken after the TV has been operating for 1 hour. The lengthy warm-up requirement may not be necessary for all TV technologies, requiring unnecessary burden on manufacturers; therefore DOE would like to solicit comments from interested parties on appropriate warm-up periods or a method of ensuring that the variation in the measured power is within a particular percentage needed for TVs to reach steady-state.

For conducting luminance measurements, the ENERGY STAR v. 4.1 test procedure requires the luminance test pattern to run for 10 minutes before recording a measurement, noting that if the TV stabilizes prior to 10 minutes, a measurement can be taken earlier. DOE believes that the 10 minute warm-up period may not provide sufficient time to allow all TV technologies to stabilize. However, a longer warm-up period will increase the overall time needed to conduct a full test. DOE would like to receive comments from interested parties on the time required for TV luminance to stabilize.

E. Three Dimensional Technology

Both the IEC and ENERGY STAR v. 4.1 test procedures only account for testing of two dimensional (2D) images. However, three dimensional (3D) technology in TVs is becoming increasingly popular and DOE is unaware of any existing test methods for accurately measuring energy use for 3D technology using 3D images. Although 3D TVs can switch to 2D viewing and be tested using existing 2D test procedures, the 2D test patterns and testing methods might not account for the potential increase in energy use associated with 3D picture settings. DOE requests feedback from interested parties on testing 3D TVs.

F. Download Acquisition Mode

The ENERGY STAR v. 4.1 test procedure defines download acquisition mode as:

“Where the product is connected to a mains power source, is not producing a sound or a picture, and is actively downloading channel listing information according to a defined schedule for use by the electronic programming guide, monitoring for emergency messaging/communications and/or otherwise communicating through a network protocol. The power use in this mode is typically greater than the power requirement in Sleep and less than that in On Mode.”

While IEC Standard 62087 does account for energy consumed in download acquisition mode, the ENERGY STAR v. 4.1 test procedure requires that download acquisition mode be tested according to the test procedure developed by ROVI Corporation (http://www.energystar.gov/ia/partners/prod_development/revisions/downloads/television/Procedure_DAM_Testing.pdf). DOE is considering if and how it should measure download acquisition mode and would like interested party feedback on the issue.

G. Internet Connectivity

TVs are increasingly designed to include the ability to connect to the internet. This technology allows users to stream information directly from the internet for display onto their TV, potentially causing TVs to consume more energy. IEC Standard 62087 measures internet usage by requiring that a power measurement be taken while the television is displaying an internet content video signal. Although internet and television images may differ, DOE would like to receive comment on the energy required to connect to and display images from the internet.

H. Power Saving Technologies

1. Presence Sensors

Presence sensors use a technology that enables a TV to sense the presence of viewers through movement and body heat. The TV will power down if it senses a lack of a viewer in the room, in order to save energy. IEC Standard 62087 measures savings related to other power saving functions but does not specify a detailed test method for testing presence sensor technology.

To ensure that all power saving technologies are accounted for correctly in the test procedure, DOE is considering whether or not to develop a more detailed test procedure to test savings associated with the presence sensor technology. DOE would like to receive comment on this issue.

2. Other Power Saving Technologies

DOE is aware that many power saving technologies exist for TVs. For example, Video Electronics Standards Association (VESA) Display Power Management System (DPMS), which manages the power supply of computer displays, and HDMI Consumer Electronics Control (CEC), which allows users to manage their entertainment system to reduce energy use. IEC Standard 62087 accounts for other power saving functions by simply requiring that the user “test other power saving functions,” but does not specify particular testing methods for these technologies.

In order to ensure the most repeatable and reproducible testing method, DOE would like to receive comment on possible methods to test these as well as other viable power saving technologies.

I. Scope of Coverage

Traditionally, computer monitors and televisions have been tested separately since each requires different technologies and were utilized differently by consumers. Recently, however, televisions have begun to integrate the internet and other computer-like features. Similarly, some computer monitors now feature television viewing capabilities. Both the technologies and markets for computer monitors and television have begun to merge, with some identical products being marketed separately as televisions and monitors. For instance, LCD panels are often identical in similar-sized monitors and TVs; new TVs often come equipped to receive VGA input; and monitors often come equipped with HDMI inputs. DOE would like feedback on whether to include computer monitors in the scope of the television test procedure to account for the current amalgamation of the traditionally different products.

ENERGY STAR v. 4.1's scope includes televisions with computer capability but distinguishes between televisions and computer monitors only based on how they are marketed and sold to consumers. DOE would like to receive comment on whether computer monitor and television technology require separate testing methods or could be tested using the same methods.

DOE seeks responses from interested parties and requests submission of comments, relevant data, and information related to the issues described above.

III. Public Participation

DOE is also interested in comments on other relevant issues that participants believe would affect test procedures applicable to this product. DOE invites all interested parties to submit in writing by October 4, 2010, comments and information on matters addressed in this notice and on other matters relevant to DOE's consideration of new test procedures for TVs.

After the close of the comment period, DOE will begin collecting data, conducting the analyses, and reviewing the public comments. These actions will be taken to aid in the development of a test procedure NOPR for TVs.

DOE considers public participation to be a very important part of the process for developing test procedures. DOE actively encourages the participation and interaction of the public during the comment period in each stage of the rulemaking process. Interactions with and between members of the public provide a balanced discussion of the issues and assist DOE in the rulemaking process. Anyone who wishes to be added to the DOE mailing list to receive future notices and information about this rulemaking should contact Ms. Brenda Edwards at (202) 586-2945, or via e-mail at Brenda.Edwards@ee.doe.gov.

Issued in Washington, DC, on August 27, 2010.
Cathy Zoi,
Assistant Secretary, Energy Efficiency and Renewable Energy.

[FR Doc. 2010-22066 Filed 9-2-10; 8:45 am]

BILLING CODE 6450-01-P